DEPARTMENT OF ENERGY

Energy Information Administration

Agency Information Collection Activities: Proposed Collection; Comment Request

AGENCY: Energy Information Administration (EIA), Department of Energy (DOE).

ACTION: Agency information collection activities: proposed collection; comment request.

SUMMARY: The DOE is soliciting comments on the proposed revisions and three-year extension to EIA-417, “Emergency Incident and Disturbance Report.” (The revised Form, sponsored by DOE's Office of Electricity and Energy Assurance, (EEA) will be renumbered as the EEA-417, “Emergency Incident and Disturbance Report.”)

DATES: Comments must be filed by May 16, 2005. If you anticipate difficulty in submitting comments within that period, contact the person listed below as soon as possible.

ADDRESSES: Send comments to Alice Lippert, U.S. Department of Energy, 1000 Independence Ave., SW., Washington, DC 20585-0690. Alternatively, Ms. Lippert may be contacted by telephone at (202) 586-9600, FAX at (202) 586-2623, or e-mail at alice.lippert@hq.doe.gov.

FOR FURTHER INFORMATION CONTACT: Requests for additional information or copies of forms and instructions should be directed to Ms. Lippert at the address listed above.

SUPPLEMENTARY INFORMATION:

I. Background

II. Current Actions

III. Request for Comments

I. Background

The Federal Power Act (16 U.S.C. 791a et seq.) authorizes the DOE to collect information on the generation, distribution, and transmission of electric energy. The DOE collects information on emergency situations in electric energy supply systems so that appropriate Federal emergency response measures can be implemented in a timely and effective manner.

The DOE, as part of its effort to comply with the Paperwork Reduction Act of 1995 (Pub. L. 104-13, 44 U.S.C. Chapter 35), provides the general public and other Federal agencies with opportunities to comment on collections of energy information. Any comments received help the DOE to prepare data requests that maximize the utility of the information collected, and to assess the impact of collection requirements on the public. Also, the DOE will later seek approval by the Office of Management and Budget (OMB) under section 3507(a) of the Paperwork Reduction Act of 1995.

The purpose of this notice is to seek public comment on the revised Form EEA-417 used to report electric emergency incidents and disturbances to the DOE. The Form EEA-417 reports will enable the Department to monitor electric emergency incidents and disturbances in the United States (including all 50 States, the District of Columbia, Puerto Rico, U.S. Virgin Islands, and the U.S. Trust Territories) so Government may help prevent the physical or virtual disruption of the operation of any critical infrastructure.

Currently, DOE's Office of Electricity and Energy Assurance (EEA) uses Form EIA-417, “Emergency Incident and Disturbance Report,” to monitor major system incidents on electric power systems and to conduct after-action investigations on significant interruptions of electric power. The information is used to meet DOE national security responsibilities and requirements contained in the National Response Plan. The information may also be used in developing legislative recommendations and reports to Congress; and coordinating Federal efforts regarding activities such as incidents/disturbances in critical infrastructure protection; continuity of electric industry operations; and the continuity of operations of the government.

The information submitted may also be used by the Department's Office of Policy and International Affairs and the Energy Information Administration to analyze significant interruptions of electric power.

II. Current Actions

The DOE is proposing changing the form number from EIA-417 to EEA-417 to reflect the sponsorship of the form and to revise the reporting requirements. The revisions include the following: (1) Identifying which electric emergency incidents must be reported, on which schedule, and how soon after an incident must the form be submitted; (2) changing reporting criteria and thresholds for incidents and disturbances; and (3) adding check-off boxes, (4) including optional data reporting; and (5) revising the confidentiality provisions. Each revision is discussed below.

(1) Schedule Requirements and Timelines

The Form EEA-417, “Electric Emergency Incident and Disturbance Report,” will have the existing Schedule 1 broken into two parts, Part A and Part B. The proposed Part A of Schedule 1 (Emergency Alert Notice) will be for a subset of incidents and disturbances that need to be filed within one hour. The reporting requirement is that the Form EEA-417 must be submitted within 1 hour if the cause of the disturbance meets criteria 1-8 (The new criteria are discussed in the next section). The proposed Part B of Schedule 1 will contain essentially the same information as the existing form, but will be labeled Part B—Normal/Update Alert Notice and will have an initial reporting requirement of 6 hours. The separation of Schedule 1 into two Parts reflects that the initial notification to the Federal Government about potential impacts of incidents on electrical system operations is not required of all incidents or disturbances within one hour. Schedule 2 has been modified to request that the respondent identify the names of facilities affected and provide input about “electrical islanding situations.” (This occurs where part or parts of a power grid remain(s) operational in an otherwise blacked out area or within the partial failure of an integrated electrical system.)

(2) Changes to Reporting Criteria

The Required Respondents criteria will be revised to properly address actual physical or cyber attacks that do damage to the Nation's infrastructure, from that of suspected or attempted actions. The reporting criteria are adjusted by adding two new lines (1 and 2), which are subsets of the current criteria 5 and 6. Lastly, proposed criterion 4 (electrical islanding) is also a subset of the current criterion 9 (full electrical system failure). The recommended changes provide for better reporting of an alert within one hour that describes actual events that have had an impact on electrical operations.

The proposed format for criteria (1, 2, and 4) are included with the existing criteria (which are re-numbered so they are) ranked by severity of incident. The proposed criteria are:

1. Actual physical attack that causes major interruptions or impacts to critical infrastructure facilities or to operations (subset of criterion 5 on current form).

2. Actual cyber or communications attack that causes major interruptions of electrical system operations (subset of criterion 6 on current form).

3. Complete operational failure or shut-down of the transmission and/or distribution electrical system (criterion 9 on current form).

4. Electrical System Separation (Islanding) where part or parts of a power grid remain(s) operational in an otherwise blacked out area or within the partial failure of an integrated electrical system (subset of criterion 9 on current form).

5. Uncontrolled loss of 300 Megawatts (MW) or more of firm system loads for more than 15 minutes from a single incident (criterion 1 on current form).

6. Load shedding of 100 MW or more implemented under emergency operational policy (criterion 2 on current form).

7. System-wide voltage reductions of 3 percent or more (criterion 3 on current form).

8. Public appeal to reduce the use of electricity for purposes of maintaining the continuity of the electric power system (criterion 4 on current form).

9. Suspected physical attacks that could impact electric power system adequacy or reliability; or vandalism which target components of any security systems (subset of criterion 5 on current form).

10. Suspected cyber or communications attacks that could impact electric power system adequacy or vulnerability (subset of criterion 6 on current form).

11. Loss of electric service to more than 25,000 customers for 1 hour or more (modification of reporting requirement for criterion 8 on current form—see below).

12. Fuel supply emergencies that could impact electric power system adequacy or reliability (criterion 7 on current form).

With respect to Criterion 11 in Schedule 1, the threshold “Loss of electric service to more than 25,000 customers for 1 hour or more” has been reduced from 50,000 to 25,000 end-user customers. This change was made after DOE reviewed several years of filings and determined that a strong undercount exists for reporting by mid-sized and small utilities.

Any utility, business entity, or energy concern that participates in the electric power industry could be notified by DOE that it needs to provide technical information concerning a particular incident. A new confidential question, covering a teleconferencing contact has been added to support this area. If DOE believes that the incident(s) warrants a conference discussion, the respondent will be requested to supply the teleconference/video number and password for that session on the Form EEA-417. These special investigations are infrequent and reports are released to the public. (The Department of Energy has initiated three special studies about incidents that happened in the 1990s and none in the 1980s. The three studies are: The Cold Weather Snap of 1992; The Electric Power Outages in the Western United States, July 2-3, 1996 (DOE/PO-0050); and the Report of the U.S. Department of Energy's Power Outage Study Team (DOE/PO—March 2000 Final Report.)

(3) Check-Off Boxes

Another proposed revision to the Form EEA-417 is to add more detail to the check-off boxes in Sections 19, 20, and 21, formerly Sections 17, 18, and 19. The check-off boxes are grouped by events that describe: Type of Emergency, Cause of Incident, and Actions Taken. The respondent will continue to mark the form to indicate all known or suspected causes. In addition, check-off boxes have been added to indicate if high voltage transmission substations or switchyards (230 kV+ for AC; 200 kV+ for DC) were impacted. (kV is kilovolt, AC is Alternating Current, and DC is Direct Current.) The classifications of Cause of Incident and Actions Taken were also adjusted to rank categories by severity.

(4) Optional Data Reporting

The data will continue to be filed with the DOE's Emergency Operations Center. This DOE facility operates 24 hours a-day, 7-days a week. Electronic submission is the preferred method of notification. Fax, e-mail, and telephone contract are also accepted. However, changes to the information sharing process are under consideration as well as allowance for optional filing modes. The U. S. Department of Homeland Security and the North American Electric Reliability Council are developing a Homeland Security Information Network (HSIN) program that may change the data submission process. (The HSIN has been designated by DHS as its primary platform for the sharing of information and as the mechanism for collaboration on threats and vulnerabilities pertaining to U.S. critical infrastructure. HSIN will enable industry sectors designated as owners and operators of “critical infrastructure” under HSPD-7 to receive, submit, share and collaborate on information pertaining to incidents, threats, vulnerabilities and infrastructure security. HSIN will be financed by DHS and controlled by the industry sectors. HSIN runs on a highly secure backbone network, and includes the following components: (a) Industry sector portals with the ability to report incidents via secure protocol, post community updates and store sensitive documents; (b) Collaboration Tools enabling members to engage in real-time dialogue around planning and response to incidents; and (c) Broadcasting/Narrowcasting of alerts, threats and warnings. The proposed reporting process is intended to reduce duplicative reporting and establish a common reporting format by providing another option on how the Form EEA-417 can be filed with DOE. As this concept is developed, the status will be addressed in future informational releases or Federal Register notices.

(5) Confidentiality

DOE will treat the entire narrative on Form EEA-417, Schedule 2, as confidential. The requested information will provide a brief description of the incident or expected system problem, names of facilities affected, and actions taken to resolve it. If released, this could affect the economic operations of various electricity markets; cause competitive harm; and/or identify concerns that could be or are being reviewed by law enforcement agencies. Contact information for a respondent will continue to be treated as confidential (Lines 4-9 of Schedule 1). This includes the proposed Line 9 covering teleconferencing/video contact information.

The following is the provision for confidentiality of information for data in the possession of DOE that will be applied to the data submitted in the narrative in Schedule 2.

The information reported on Form EEA-417 will be kept confidential and not disclosed to the public to the extent that it satisfies the criteria for exemption under the Freedom of Information Act (FOIA), 5 U.S.C. 552, the DOE regulations, 10 CFR 1004.11, implementing the FOIA, and the Trade Secrets Act, 18 U.S.C. 1905. The DOE will protect your information in accordance with its confidentiality and security policies and procedures.

The Federal Energy Administration Act requires the DOE to provide company-specific data to other Federal agencies when requested for official use. The information reported on this form may also be made available, upon request, to another component of the DOE; to any Committee of Congress, the General Accounting Office, or other Federal agencies authorized by law to receive such information. A court of competent jurisdiction may obtain this information in response to an order. The information may be used for any nonstatistical purposes such as administrative, regulatory, law enforcement, or adjudicatory purposes.

Officials in the Critical Infrastructure Protection Branch of the Department of Homeland Security have requested access to the EEA-417 submissions.

III. Request for Comments

Prospective respondents and other interested parties should comment on the actions discussed in item II. The following guidelines are provided to assist in the preparation of comments.

General Issues:

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a potential respondent to the request for information:

A. Are the instructions and definitions clear and sufficient? If not, which instructions need clarification?

B. Can the information be submitted by the due date?

C. Public reporting burden for this collection is estimated to average 10 minutes for the Emergency Incident Report (Schedule 1, Part A) that is to be filed within 1 hour; the overall public reporting burden for the form is estimated at 2 hours to cover any detailed reporting in the Normal/Update Report (Schedule 1, Part B and Schedule 2) that would be filed later (up to 48 hours), if required. In your opinion, how accurate is this estimate?

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

G. Is the proposed treatment for narrative information as confidential appropriate? Is it appropriate for another data element? If so, then specify the data element(s) and provide an explanation for the proposed confidential status. Is the delayed release of information effective in addressing competitive market concerns?

As a potential user of the information to be collected:

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, March 10, 2005.
Jay H. Casselberry,
Agency Clearance Officer, Energy Information Administration.

[FR Doc. 05-5184 Filed 3-15-05; 8:45 am]

BILLING CODE 6450-01-P